DEPARTMENT OF THE INTERIOR

Fish and Wildlife Service

Aquatic Nuisance Species Task Force Northeast Regional Panel Meeting

AGENCY: Fish and Wildlife Service, Interior

ACTION: Notice of meeting.

SUMMARY: This notice announces a meeting of the Aquatic Nuisance Species (ANS) Task Force Northeast Regional Panel. The meeting topics are identified in the SUPPLEMENTARY INFORMATION Section.

DATES: The Northeast Regional Panel will meet from 12 p.m. to 5:30 p.m. on Thursday, December 11, 2003, and 8:30 a.m. to 3:45 p.m. on Friday, December 12, 2003. Minutes of the meeting will be available for public inspection during regular business hours, Monday through Friday.

ADDRESSES: The Northeast Regional Panel meeting will be held at the Kellogg Environmental Center, 500 Hawthorne Avenue, Derby, CT 06418. Phone 203-734-2513. Minutes of the meeting will be maintained by the Executive Secretary, Aquatic Nuisance Species Task Force, Suite 810, 4401 North Fairfax Drive, Arlington, Virginia 22203-1622.

FOR FURTHER INFORMATION CONTACT: Susan Snow-Cotter, 671-626-1202 or Sharon Gross, Executive Secretary, Aquatic Nuisance Species Task Force, at 703-358-2308, or by e-mail, at sharon_gross@fws.gov

SUPPLEMENTARY INFORMATION: Pursuant to section 10(a)(2) of the Federal Advisory Committee Act (5 U.S.C. App. I), this notice announces a meeting of the Aquatic Nuisance Species Task Force Northeast Regional Panel. The Task Force was established by the Nonindigenous Aquatic Nuisance Prevention and Control Act of 1990. The Northeast Regional Panel was established on July 25, 2001, to advise and make recommendations to the Aquatic Nuisance Species Task Force on issues relating to the Northeast region of the United States. Geographically, the Northeast region is defined to include the jurisdictions of the states of Maine, New Hampshire, Vermont, Massachusetts, Rhode Island, Connecticut, and New York. The Northeast Regional Panel will discuss several topics at the meeting including: Updates from provinces and states; status reports from subcommittees on Ballast Water, Communication, Education, and Outreach, Policy and Legislation, and Science and Technology; the New England rapid assessment planning; updates on early detection and rapid response workshop and data management; ANS criteria for listing, establishing research priorities for invasive species in the Northeast, future training and worship, and outreach project for the non-English speaking community; updates from the Aquatic Nuisance Species Task Force and National Invasive Species Council on national issues, reauthorization of the National Aquatic Invasive Species Act; updates on the development of a Canadian National Invasive Species Plan; and other topics.

Dated: October 30, 2003.
William Knapp,
Acting Co-Chair, Aquatic Nuisance Species Task Force, Acting Assistant Director—Fisheries & Habitat Conservation.

[FR Doc. 03-28518 Filed 11-13-03; 8:45 am]

BILLING CODE 4310-55-M